DEPARTMENT OF TRANSPORTATION

Federal Aviation Administration

Consensus Standards, Light-Sport Aircraft, Notice No. NOA-17-01

AGENCY: Federal Aviation Administration (FAA), DOT.

ACTION: Notice of availability; request for comments.

SUMMARY: This notice announces the availability of one new and six revised consensus standards relating to the provisions of the Sport Pilot and Light-Sport Aircraft rule issued July 16, 2004, and effective September 1, 2004. ASTM International Committee F37 on Light Sport-Aircraft developed the new and revised standards with FAA participation. By this notice, the FAA finds the new and revised standards acceptable for certification of the specified aircraft under the provisions of the Sport Pilot and Light-Sport Aircraft rule.

DATES: Comments must be received on or before June 2, 2017.

ADDRESSES: Mail comments to: Federal Aviation Administration, Small Airplane Directorate, Programs and Procedures Branch, ACE-114, Attention: Terry Chasteen, Room 301, 901 Locust, Kansas City, Missouri 64106. Comments may also be emailed to: 9-ACE-AVR-LSA-Comments@faa.gov. Specify the standard being addressed by ASTM designation and title. Mark all comments: Consensus Standards Comments.

FOR FURTHER INFORMATION CONTACT: Terry Chasteen, Light-Sport Aircraft Program Manager, Programs and Procedures Branch, ACE-114, Small Airplane Directorate, Aircraft Certification Service, Federal Aviation Administration, 901 Locust, Room 301, Kansas City, Missouri 64106; telephone (816) 329-4147; email: terry.chasteen@faa.gov.

SUPPLEMENTARY INFORMATION: This notice announces the availability of one new and six revised consensus standards that supersede previously accepted consensus standards relating to the provisions of the Sport Pilot and Light-Sport Aircraft rule. ASTM International Committee F37 on Light-Sport Aircraft developed the new and revised standards. The FAA expects a suitable consensus standard to be reviewed periodically. The review cycle will result in a standard revision or reapproval. A standard is revised to make changes to its technical content or is reapproved to indicate a review cycle has been completed with no technical changes. A standard is issued under a fixed designation (e.g., F2245); the number immediately following the designation indicates the year of original adoption or, in the case of revision, the year of last revision. A number in parentheses following the year of original adoption or revision indicates the year of last reapproval. For example, F2242-05(2013) designates a standard that was originally adopted (or revised) in 2005 and reapproved in 2013. A superscript epsilon (e) indicates an editorial change since the last revision or reapproval. A notice of availability (NOA) will only be issued for new or revised standards. Reapproved standards issued with no technical changes or standards issued with editorial changes only (i.e., superscript epsilon [e]) are considered accepted by the FAA without need for an NOA.

Comments Invited: Interested persons are invited to submit such written data, views, or arguments, as they may desire. Communications should identify the consensus standard number and be submitted to the address specified above. All communications received on or before the closing date for comments will be forwarded to ASTM International Committee F37 for consideration. The standard may be changed in light of the comments received. The FAA will address all comments received during the recurring review of the consensus standard and will participate in the consensus standard revision process.

Background: Under the provisions of the Sport Pilot and Light-Sport Aircraft rule, and Office of Management and Budget (OMB) Circular A-119, “Federal Participation in the Development and Use of Voluntary Consensus Standards and in Conformity Assessment Activities”, revised January 27, 2016, industry and the FAA have been working with ASTM International to develop consensus standards for light-sport aircraft. These consensus standards satisfy the FAA's goal for airworthiness certification and a verifiable minimum safety level for light-sport aircraft. Instead of developing airworthiness standards through the rulemaking process, the FAA participates as a member of Committee F37 in developing these standards. The use of the consensus standard process facilitates government and industry discussion and agreement on appropriate standards for the required level of safety.

Comments on Previous Notices of Availability

In the previous Notice of Availability (NOA) issued on March 27, 2015, and published in the Federal Register on April 16, 2015 the FAA asked for public comments on the revised consensus standards accepted by that NOA. The comment period closed on June 15, 2015. No public comments were received regarding the standards accepted by this NOA.

Consensus Standards in This Notice of Availability

The FAA has reviewed the standards presented in this NOA for compliance with the regulatory requirements of the rule. Any light-sport aircraft issued a special light-sport airworthiness certificate, which has been designed, manufactured, operated and maintained, in accordance with these and previously accepted ASTM consensus standards provides the public with the appropriate level of safety established under the regulations. Manufacturers who choose to produce these aircraft and certificate these aircraft under 14 CFR 21.190 or 21.191 are subject to the applicable consensus standard requirements. The FAA maintains a listing of the latest FAA accepted standards specific to special light-sport aircraft and information on previously accepted standards on the FAA Light-Sport Aircraft ¹ Web site. The FAA is working on a separate general listing of standards accepted by the FAA that have or may have applicability to other types of certifications. This general listing will also include the FAA accepted standards specific to special light-sport aircraft. When available, a link will be placed on the FAA Light-Sport Aircraft ² Web site.

¹ http://www.faa.gov/aircraft/gen_av/light_sport/.

² http://www.faa.gov/aircraft/gen_av/light_sport/.

Prior to this NOA the listing of the FAA accepted standards specific to special light-sport aircraft included standards for gyroplanes and electric propulsion units. Including these standards on this listing could have caused confusion given the applicability statement in 14 CFR 21.190 and the definition of light-sport aircraft in 14 CFR 1.1, even though explanatory notes are provided with the listing. To prevent confusion, the revised listing of the FAA accepted standards specific to special light-sport aircraft associated with this NOA no longer includes the standards for gyroplanes and electric propulsion units. Instead, the gyroplane and electric propulsion unit standards will appear on the general listing of standards accepted by the FAA. The gyroplane and electric propulsion unit standards will be included on the listing of the FAA accepted standards specific to special light-sport aircraft at a later date, if the applicability statement in 14 CFR 21.190 and the definition of light-sport aircraft in 14 CFR 1.1 are revised accordingly.

The Revised Consensus Standard and Effective Period of Use

The following previously accepted consensus standards have been revised, and this NOA is accepting the later revision. Either the previous revision or the later revision may be used for the initial airworthiness certification of special light-sport aircraft until October 3, 2017. This overlapping period of time will allow aircraft that have started the initial airworthiness certification process using the previous revision level to complete that process. After October 3, 2017, manufacturers must use the later revision and must identify the later revision in the Statement of Compliance for initial airworthiness certification of special light-sport aircraft unless the FAA publishes a specific notification otherwise. The following Consensus Standards may not be used after October 3, 2017:

ASTM Designation F2245-14, titled: Standard Specification for Design and Performance of a Light Sport Airplane.

ASTM Designation F2317/F2317M-10, titled: Standard Specification for Design of Weight-Shift-Control Aircraft.

ASTM Designation F2563-06, titled: Standard Practice for Kit Assembly Instructions of Aircraft Intended Primarily for Recreation.

ASTM Designation F2745-11, titled: Standard Specification for Required Product Information to be Provided with an Airplane.

ASTM Designation F2930-14a, titled: Standard Guide for Compliance with Light Sport Aircraft Standards.

ASTM Designation F2972-14ε¹, titled: Standard Specification for Light Sport Aircraft Manufacturer's Quality Assurance System.

The Consensus Standards

The FAA finds the following new and revised consensus standards acceptable for initial airworthiness certification of the specified aircraft under the provisions of the Sport Pilot and Light-Sport Aircraft rule. The following consensus standards become effective April 3, 2017 and may be used unless the FAA publishes a specific notification otherwise:

ASTM Designation F2245-16c, titled: Standard Specification for Design and Performance of a Light Sport Airplane.

ASTM Designation F2317/F2317M-16a, titled: Standard Specification for Design of Weight-Shift-Control Aircraft.

ASTM Designation F2563-16, titled: Standard Practice for Kit Assembly Instructions of Aircraft Intended Primarily for Recreation.

ASTM Designation F2745-15, titled: Standard Specification for Required Product Information to be Provided with an Airplane.

ASTM Designation F2930-16, titled: Standard Guide for Compliance with Light Sport Aircraft Standards.

ASTM Designation F2972-15, titled: Standard Specification for Light Sport Aircraft Manufacturer's Quality Assurance System.

ASTM Designation F3199-16a, titled: Standard Guide for Wing Interface Documentation for Weight Shift Control Aircraft.

Availability

ASTM International, 100 Barr Harbor Drive, Post Office Box C700, West Conshohocken, PA 19428-2959 copyrights these consensus standards. Individual reprints of a standard (single or multiple copies, or special compilations and other related technical information) may be obtained by contacting ASTM at this address, or at (610) 832-9585 (phone), (610) 832-9555 (fax), through service@astm.org (email), or through the ASTM Web site at www.astm.org. To inquire about standard content and/or membership or about ASTM International Offices abroad, contact Joe Koury, Staff Manager for Committee F37 on Light-Sport Aircraft: (610) 832-9804, jkoury@astm.org.

Issued in Kansas City, Missouri on March 27, 2017.
Mel Johnson,
Acting Manager, Small Airplane Directorate, Aircraft Certification Service.

[FR Doc. 2017-06509 Filed 3-31-17; 8:45 am]

BILLING CODE 4910-13-P